ENVIRONMENTAL PROTECTION AGENCY

40 CFR Part 770

[EPA-HQ-OPPT-2017-0243; FRL-9963-06]

RIN 2070-AK30

Labeling Relief; Formaldehyde Emission Standards for Composite Wood Products

AGENCY: Environmental Protection Agency (EPA).

ACTION: Proposed rule.

SUMMARY: EPA is proposing to amend a final rule that published in the Federal Register on December 12, 2016 concerning formaldehyde emission standards for composite wood products. The proposed amendment would allow compliant composite wood products and finished goods that contain compliant composite wood products that were manufactured prior to December 12, 2017 to be labeled as Toxic Substances Control Act (TSCA) Title VI compliant. This means that regulated composite wood products and finished goods that meet the required formaldehyde emissions standards could be voluntarily labeled as compliant as soon as compliance can be achieved. This would enhance regulatory flexibility and facilitate a smoother supply chain transition to compliance with the rule's broader requirements, as well as promote lower formaldehyde emitting products entering commerce earlier than under the rule as originally published. EPA believes that the proposed amendment is non-controversial and does not expect to receive any adverse comments. Therefore, in addition to this Notice of Proposed Rulemaking, elsewhere in this issue of the Federal Register, EPA is promulgating the amendment as a direct final rule.

DATES: Written comments must be received by July 26, 2017. Comments postmarked after the close of the comment period will be stamped “late” and may or may not be considered by the Agency.

ADDRESSES: Submit your comments, identified by docket identification (ID) number EPA-HQ-OPPT-2017-0243, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Erik Winchester, National Program Chemicals Division, Office of Pollution Prevention and Toxics, Environmental Protection Agency, 1200 Pennsylvania Ave. NW., Washington, DC 20460-0001; telephone number: (202) 564-6450; email address: winchester.erik@epa.gov.

For general information contact: The TSCA-Hotline, ABVI-Goodwill, 422 South Clinton Ave., Rochester, NY 14620; telephone number: (202) 554-1404; email address: TSCA-Hotline@epa.gov.

SUPPLEMENTARY INFORMATION: For further information about the changes to the labeling provisions in the final rule concerning formaldehyde emission standards for composite wood products (81 FR 89674, December 12, 2016) (FRL-9949-90), please see the information provided in the direct final rule that is located, with the same title as this proposed rule, in the “Rules and Regulations” section of this Federal Register publication (See FRL-9963-05).

List of Subjects in 40 CFR Part 770

Environmental protection, Formaldehyde, Incorporation by reference, Reporting and recordkeeping requirements, Third-party certification, Toxic substances, Wood.

Dated: June 21, 2017.
Wendy Cleland-Hamnett,
Acting Assistant Administrator, Office of Chemical Safety and Pollution Prevention.

[FR Doc. 2017-14514 Filed 7-10-17; 8:45 am]

BILLING CODE 6560-50-P